DEPARTMENT OF COMMERCE

National Oceanic and Atmospheric Administration

[I.D. 122005C]

Notice of Intent to Prepare an Environmental Impact Statement on Impacts of Research on Steller Sea Lions and Northern Fur Seals Throughout Their Range in the United States

AGENCY: National Marine Fisheries Service (NMFS), National Oceanic and Atmospheric Administration (NOAA), Commerce.

ACTION: Notice of Intent to prepare environmental impact statement.

SUMMARY: The National Marine Fisheries Service (NMFS) announces its intent to prepare an Environmental Impact Statement (EIS) to analyze the environmental impacts of administering grants and issuing permits associated with research on endangered and threatened Steller sea lions (Eumetopias jubatus) and depleted northern fur seals (Callorhinus ursinus). Publication of this notice begins the official scoping process that will help identify alternatives and determine the scope of environmental issues to be addressed in the EIS. This notice requests public participation in the scoping process and provides information on how to participate.

The purpose of conducting research on threatened and endangered Steller sea lions is to promote the recovery of the species' populations such that the protections of the Endangered Species Act (ESA; 16 U.S.C. 1531 et seq.) are no longer needed. Consistent with the purpose of the Marine Mammal Protection Act (MMPA; 16 U.S.C. 1361 et seq.), the purpose of conducting research on northern fur seals is to contribute to the basic knowledge of marine mammal biology or ecology and to identify, evaluate, or resolve conservation problems for this depleted species.

Research on Steller sea lions and northern fur seals considered in this EIS is funded and permitted by NMFS, which are both federal actions requiring National Environmental Policy Act (NEPA; 42 U.S.C. 4321 et seq.) compliance. The need for these actions is to facilitate research to: (1) Prevent harm and avoid jeopardy or disadvantage to the species; (2) promote recovery; (3) identify factors limiting the population; (4) identify reasonable actions to minimize impacts of human-induced activities; (5) implement conservation and management measures; and (6) make data and results available in a timely manner for management of the species. As part of this action, NMFS is developing measures that will improve efficiency and avoid unnecessary redundancy in Steller sea lion and northern fur seal research, utilize best management practices, facilitate adaptive management, and standardize research protocols.

ADDRESSES: See SUPPLEMENTARY INFORMATION for specific dates, times, and locations of public scoping meetings for this issue.

FOR FURTHER INFORMATION CONTACT: Written statements and questions regarding the scoping process must be postmarked by February 13, 2006, and should be mailed to: Steve Leathery, Chief, Permits, Conservation and Education Division, Office of Protected Resources, National Marine Fisheries Service, 1315 East-West Highway, Room 13705, Silver Spring, MD 20910-3226, Fax: 301-427-2583 or e-mail at ssleis.comments@noaa.gov.

SUPPLEMENTARY INFORMATION: NMFS is the Federal agency responsible for management of Steller sea lions and northern fur seals under the ESA and the MMPA. NMFS currently administers grants and issues permits to various individuals and institutions to conduct research on Steller sea lions and northern fur seals in lands and waters under U.S. jurisdiction.

The grant monies administered by NMFS have been designated by Congress and allocated within NMFS annual budgets for the purpose of facilitating research on Steller sea lions and northern fur seals. The agency has determined that the act of awarding grants is a federal action requiring NEPA compliance. Similarly, issuance of permits for research activities on marine mammals is a federal action requiring NEPA compliance. These permits are issued pursuant to the provisions of the ESA, the MMPA, and NMFS regulations implementing these statutes. This EIS would satisfy the NEPA compliance requirements for awarding grants and issuing permits for research on Steller sea lions and northern fur seals.

The statutory requirements for permits to allow research on marine mammals and on threatened and endangered species are described in Section 104 of the MMPA and Section 10 of the ESA, respectively. Specifically, Section 104(c)(3)(A) of the MMPA states that NMFS may issue a permit for scientific research purposes to an applicant, which submits with its permit application information indicating that the taking is required to further a bona fide scientific purpose. The MMPA defines bona fide scientific research as scientific research on marine mammals, the results of which: (1) likely would be accepted for publication in a refereed scientific journal; (2) are likely to contribute to the basic knowledge or marine mammal biology or ecology; or (3) are likely to identify, evaluate, or resolve conservation problems. Section 104 of the MMPA specifies additional conditions and requirements for permits including requiring permit applicants to demonstrate that the permit will be consistent with the purposes of the MMPA, which are specified in Section 2 of the statute.

For marine mammals listed as threatened or endangered, the provisions of Section 10 of the ESA apply to permit issuance in addition to the provisions of the MMPA. Section 10(a)(1)(A) of the ESA states that NMFS may issue permits for otherwise prohibited acts for scientific purposes or to enhance the propagation or survival of the affected species. Section 10(d) of the ESA further states that NMFS may grant exceptions under subsection 10(a)(1)(A) only if the agency finds that: (1) Such exceptions were applied for in good faith, (2) if granted and exercised will not operate to the disadvantage of such endangered species, and (3) will be consistent with the purposes and policies set forth in Section 2 of the Act. The purposes of the ESA, which are stated in Section 2 of the statute, are to provide a means whereby the ecosystems upon which endangered and threatened species depend may be conserved, to provide a program for the conservation of such endangered and threatened species, and to take such steps as may be appropriate to achieve the purposes of the treaties and conventions set forth in section 2(a) of the ESA.

In addition to the requirements of section 10 of the ESA, NMFS must comply with section 7 of the ESA in issuing permits. According to Section 7 of the ESA, NMFS must insure that any action it authorizes (such as by permit), funds (such as by grants), or carries out, is not likely to jeopardize the continued existence of listed species or result in destruction or adverse modification of critical habitat.

The purpose of issuing permits is to allow an exemption to the prohibitions on “takes” established under the ESA and MMPA. The ESA and the MMPA prohibit “takes” of threatened and endangered species, and of marine mammals, respectively. The ESA defines “take” as “to harass, harm, pursue, hunt, shoot, wound, kill, trap, capture, or collect, or to attempt to engage in any such conduct.” Under the MMPA, “take” is defined as to “harass, hunt, capture, collect or kill, or attempt to harass, hunt, capture, collect or kill any marine mammal.” Many research activities, including aerial and vessel-based surveys, tagging and marking procedures, attachment of scientific instruments, and collection of tissue samples require approaching or capturing animals and may result in harassment or other acts prohibited under the ESA and MMPA except where allowed by permit.

Because some of the proposed research may result in adverse effects on threatened and endangered Steller sea lions and depleted northern fur seals, NMFS has decided to prepare an EIS to evaluate the cumulative impacts of continuing to fund and permit research activities on these species. This EIS will assess the likely environmental and socioeconomic effects of funding and permitting research under a range of alternatives and will address compliance of the alternatives with the ESA, MMPA, and other applicable laws.

This notice initiates a public scoping period that will help determine the structure of each alternative considered in the EIS. The final scope and structure of the alternatives will reflect the combined input from the public, research institutions, affected state and federal agencies, and NMFS administrative and research offices. Based on comments received on Environmental Assessments prepared in 2002 and 2005 for permitting research on Steller sea lions, the following issues that NMFS is seeking public comments on have been identified and may be incorporated into the analysis of alternatives in the EIS:

(1) Types of research methods and protocols permitted. For example, are there critical research needs for these species other than those identified in the Recovery or Conservation Plans? If so, what are they and how are they likely to benefit the species? Of the research, information, and monitoring needs identified in the Recovery and Conservation Plans, what are the most appropriate methods to conduct the study or obtain the information? What criteria for developing and incorporating new research techniques should be used?

(2) Level of research effort. For example, how much of a specific research activity (e.g., aerial survey, tagging, biopsy sampling, etc.) is enough for management and conservation needs? Can there be too much? If so, how should NMFS set limits? Are the current methods to assess and document numbers of different “takes” that occur as a result of permitted research appropriate? Should there be different standards or more restrictions placed on research conducted on certain age, sex, or life-history stages or on the geographic or temporal distribution of research effort? If so, what should those limitations be?

(3) Coordination of research. For example, assuming permits are issued to multiple individuals, what are the most appropriate mechanisms for ensuring research is coordinated to maximize information and reduce adverse impacts? Alternatively, should NMFS consider limiting the number of permits to increase coordination and cooperation? If so, how should this be accomplished? Should researchers operating under different permits (but studying the same or related questions such as aerial survey for population census or biopsy for population genetics) be required to use the same or similar methods to ensure the information collected is comparable and useful for NMFS conservation of the species? If so, what methods are most appropriate (e.g., for aerial surveys; capture and restraint; tissue sampling; marking; etc.)? If not, how should NMFS compare or use the data from various permit holders in its management decisions?

(4) Effects of research. NMFS will be assessing possible effects of the various research methods using all appropriate available information. Anyone having relevant information they believe NMFS should consider in its analysis should provide a complete citation or reference for retrieving the information. In addition, NMFS is seeking recommendations for study designs that could detect or predict the effects of research on Steller sea lions and northern fur seals.

(5) Qualification of researchers. For example, to ensure the study is conducted successfully and with the minimum of adverse impacts, how much prior experience should a permit applicant, principal investigator, or anyone else operating under a permit have with the specific methods for which they seek a permit?

(6) Criteria for allowing modifications or amendments to existing grants and permits; for denying permit amendments; and for suspending or revoking permits. In addition to the existing statutory and regulatory criteria for permit issuance and denial, should there be restrictions on the number or type of permit modifications or amendments issued over the life of a permit? With respect to environmental impacts, under what conditions should a permit be modified, revoked or suspended by NMFS?

The exact number and structure of the alternatives that are analyzed in the EIS will be determined based on information gathered during scoping. To provide a framework for public comments, the range of potential alternatives currently includes the Proposed Action and several other action alternatives, as well as a No Action alternative. The Proposed Action alternative would result in issuance of permits to qualified individuals and institutions to conduct those research activities determined critical or essential to NMFS' conservation and recovery of Steller sea lions and northern fur seals. To minimize the cumulative impacts of research on these species, no permits would be issued for lower priority research activities until the highest priority tasks identified for species conservation and recovery were completed or unless there was sufficient information to determine that the cumulative impacts of allowing additional takes for research would not adversely impact, disadvantage, or jeopardize the continued existence of the species. The Proposed Action could thus be viewed as a minimum take alternative, allowing the least amount of research practicable to meet NMFS' needs for recovery and conservation of the species.

In addition to the Proposed Action, NMFS will consider other alternatives for issuing permits for research on Steller sea lions and northern fur seals. One alternative to the Proposed Action is to issue all permits requested regardless of their relative potential contribution to conservation and recovery of the species, provided they meet all permit issuance criteria and would not jeopardize the continued existence of threatened or endangered species or result in significant adverse effects on depleted species. In contrast to the Proposed Action, this could be viewed as the maximum allowable take alternative.

Another alternative to the Proposed Action is the No Action alternative, which CEQ regulations require be included for consideration. The No Action alternative would only allow conduct of that research on Steller sea lions and northern fur seals already allowed under existing permits, which are valid through 2010. No new permits would be issued to replace the expiring permits, nor would existing permits be amended to allow modifications in research activities, sample sizes, or objectives.

A fourth alternative considered is the Status Quo. As with the No Action alternative, the Status Quo alternative would allow conduct of research on Steller sea lions and northern fur seals already identified under existing permits, and no permits would be amended to change research activities, sample sizes, or objectives. However, under the Status Quo Alternative, new permits would be issued to replace existing permits as they expire such that the current level of research and types of research activities would continue. Since the Status Quo would not allow issuance of permits for any research activities, objectives, or sample sizes not currently permitted, it would preclude adaptive changes in the research program that may be responsive to changes in the population status or threats to the recovery of the species.

The Status Quo and two other alternatives considered by NMFS may be eliminated from detailed study because they would not allow conduct of research identified by NMFS as necessary for conservation of the species. The other two alternatives that may be eliminated from further study are: (1) imposing a research permit moratorium (i.e., suspending or revoking existing permits and not issuing new ones) and (2) suspending all intrusive research activities (i.e., stopping biopsy sampling, instrument attachment, and other activities that could result in physical injury). In addition to preventing collection of information about Steller sea lions and northern fur seals needed for NMFS conservation and recovery efforts for these species, a research permit moratorium would hinder NMFS ability to monitor the status of these populations, which is important in making informed management decisions. Suspending permits for intrusive research would impede collection of information on Steller sea lion and northern fur seal habitat use and population structure which is needed for NMFS' conservation and recovery efforts for these species.

The EIS will assess the direct and indirect effects of the alternative approaches to funding and permitting Steller sea lion and northern fur seal research. The EIS will assess the effects on these species as well as other components of the marine ecosystem and human environment. The EIS will assess the contribution of research activities to the cumulative effects on these resources, including effects from past, present, and reasonably foreseeable future events and activities that are external to the research activities. The EIS will also assess the potential beneficial impacts of the research as it relates to conservation of Steller sea lions and northern fur seals. Anyone having relevant information they believe NMFS should consider in its analysis should provide a description of that information along with complete citations for supporting documents.

For additional information about Steller seal lions, northern fur seals, the permit process, and related information for these species, please visit our website at: http://www.nmfs.noaa.gov/pr/permits/eis/steller.htm.

Scoping Meetings Agenda

Public scoping meetings will be held at the following dates, times, and locations:

1. January 18, 2006, 1 - 4 p.m., Silver Spring Metro Center, Building 4, Science Center, 1301 East-West Highway, Silver Spring, MD;

2. January 20, 2006, 4 - 7 p.m., Alaska Fisheries Science Center, 7600 Sand Point Way NE, Building 9, Seattle, WA; and

3. January 23, 2006, 5 - 8 p.m., Hilton Anchorage, 501 West 3rd Avenue, Anchorage, AK.

Comments will be accepted at these meetings as well as during the scoping period, and can be mailed to NMFS by February 13, 2006 (see FOR FURTHER INFORMATION CONTACT).

NMFS will consider all comments received during the comment period. All hardcopy submissions must be unbound, on paper no larger than 8 1/2 by 11 inches (216 by 279 mm), and suitable for copying and electronic scanning. NMFS requests that you include in your comments:

(1) Your name and address;

(2) Whether or not you would like to receive a copy of the Draft EIS; and

(3) Any background documents to support your comments as you feel necessary.

Special Accommodations

These meetings are accessible to people with disabilities. Requests for sign language interpretation or other auxiliary aids should be directed to Tammy Adams or Andrew Wright, 301-713-2289 (voice) or 301-427-2583 (fax), at least 5 days before the scheduled meeting date.

Dated: December 20, 2005.
Stephen L. Leathery,
Chief, Permits, Conservation and Education Division, Office of Protected Resources, National Marine Fisheries Service.

[FR Doc. E5-7989 Filed 12-27-05; 8:45 am]

BILLING CODE 3510-22-S